DEPARTMENT OF LABOR

Office of the Secretary

Submission for OMB Review; Comment Request

September 28, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or email: King-Darrin@dol.gov.

Comments should be sent to Office of Information and Regulatory Affairs, Attn: OMB Desk Officer for DOL, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Assistant Secretary for Policy (ASP).

Type of Review: Revision of a currently approved collection.

Title: National Agricultural Workers Survey (NAWS).

OMB Number: 1225-0044.

Affected Public: Individuals or households and Farms.

Type of Response: Reporting.

Frequency: Annually.

Number of Respondents: 5,500.

Number of Annual Responses: 5,500.

Estimated Time Per Response: 20 minutes to conduct employer interviews and 80 minutes to conduct employee interviews.

Total Burden Hours: 5,840.

Total Annualized Capital/Startup Costs: $0.

Total Annual Costs (operating/maintaining systems or purchasing services): $0.

Description: The NAWS provides data to public and private service programs and data analysis which are used for the planning, implementing and evaluation of farm workers programs. Analysis provides an understanding of the manpower resources available to the U.S. agriculture and the importance of immigrants in the labor market. It is the only national sources of data on the demographic and employment characteristics of farm workers.

Ira Mills,
Departmental Clearance Officer.

[FR Doc. 01-24985 Filed 10-4-01; 8:45 am]

BILLING CODE 4510-23-M